FEDERAL COMMUNICATIONS COMMISSION

47 CFR Part 4

[PS Docket Nos. 21-346 and 15-80; ET Docket No. 04-35, FCC 25-45; FR ID 311054]

Resilient Networks; Concerning Disruptions to Communications

AGENCY: Federal Communications Commission.

ACTION: Final rule.

SUMMARY: In this document, the Federal Communications Commission (Commission) adopts an Order on Reconsideration (Order) which grants in part, the Alliance for Telecommunications Industry Solutions' (ATIS's) petition for reconsideration of the Second Report and Order & Further Notice Proposed Rulemaking (FNPRM)—in which the Commission adopted certain rules governing Disaster Information Reporting System (DIRS) activations—to clarify what the Commission expects from providers during DIRS activations. Specifically, the Order clarifies the scope of the suspension of Network Outage Reporting System (NORS) reporting obligations during DIRS activations, thereby reducing filing burdens. The Commission otherwise denies ATIS's petition.

DATES: Effective September 16, 2025.

FOR FURTHER INFORMATION CONTACT: Jeanne Stockman, Attorney Advisor, Cybersecurity and Communications Reliability Division, Public Safety and Homeland Security Bureau, at (202) 418-7830, or Jeanne.Stockman@fcc.gov.

SUPPLEMENTARY INFORMATION: This is a summary of the Commission's Order on Reconsideration (Order), FCC 25-45, adopted August 4, 2025, and released August 6, 2025. The full text of this document is available by downloading the text from the Commission's website at: https://docs.fcc.gov/public/attachments/FCC-25-45A1.pdf. The full text of this document is available for public inspection and copying during regular business hours in the FCC Reference Center, 45 L Street NE, Washington, DC 20554. To request materials in accessible formats for people with disabilities (Braille, large print, electronic files, audio format), send an email to FCC504@fcc.gov or call the Consumer & Governmental Affairs Bureau at 202-418-0530 (voice). A Proposed Rule relating to 47 CFR part 4 is published elsewhere in this issue of the Federal Register.

Procedural Matters

Regulatory Flexibility Analysis

The Regulatory Flexibility Act of 1980, as amended (RFA), requires that an agency prepare a regulatory flexibility analysis for notice-and-comment rulemaking proceedings, unless the agency certifies that “the rule will not, if promulgated, have a significant economic impact on a substantial number of small entities.” Accordingly, the Commission has prepared a Final Regulatory Flexibility Analysis (FRFA) and Initial Regulatory Flexibility Analysis (IRFA) concerning possible impact of the rule and policy changes contained in the Order on Reconsideration on small entities concerning possible impact of the rule and policy changes contained in the Order on Reconsideration on small entities. The FRFA is set forth in Appendix C.

Congressional Review Act

The Commission has determined, and the Administrator of the Office of Information and Regulatory Affairs, Office of Management and Budget, concurs, that this rule is “non-major” under the Congressional Review Act, 5 U.S.C. 804(2). The Commission will send a copy of this Order on Reconsideration to Congress and the Government Accountability Office pursuant to 5 U.S.C. 801(a)(1)(A).

Paperwork Reduction Act

This Order on Reconsideration does not contain proposed information collections subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

Synopsis

In this Order, we grant, in part, ATIS's Petition for Reconsideration and/or Clarification of the Second Report and Order. The Second Report and Order codifies the suspension of NORS reporting requirements when filers timely report outages in DIRS while DIRS is activated. We clarify that when any NORS filing is due prior to the first DIRS filing deadline, providers must submit that filing in NORS. Requirements to submit NORS filings with deadlines that occur after the deadline for the first DIRS filing deadline are waived so long as the outage is timely reported in DIRS. We otherwise deny the petition. Specifically, we decline ATIS's request to clarify that the waiver of NORS reporting during DIRS activations extends to 911 and 988 special facility notifications. We reaffirm that the final rules that the Commission adopted in the Second Report and Order regarding the waiver of NORS reporting during DIRS activations serve the public interest. We dispose of the other issues raised in ATIS's petition, concerning DIRS final reports and extending the NORS reporting waiver to DIRS-Lite activations, pursuant to § 1.429(b). These arguments were not raised in response to the 2021 Resilient Networks NPRM, and we do not believe that consideration of ATIS's arguments on these points is required in the public interest, as necessary for us to address an issue that was not raised during the proceeding for which reconsideration is sought. We nonetheless seek comment on these issues in the Third Further Notice to more fully consider alternatives in response to the points ATIS raises.

A. Clarifying the Situations in Which NORS Reporting Is Waived

We clarify our outage reporting requirements for outages that occur in the same geographic area as a DIRS activation. In these circumstances, providers must file in NORS if the required filing will become due prior to the first DIRS filing deadline of the activation. Requirements to submit any NORS filings with deadlines that occur after the first DIRS filing deadline will be waived as long as the outages are timely reported in DIRS. If the first DIRS filing deadline occurs before the NORS notification is due, then the provider may file solely in DIRS. This waiver does not apply to outages occurring outside of the geographic area where DIRS is activated, nor does it apply to outages with notification deadlines that occur after DIRS is deactivated. All outage impacts that are not timely reported in DIRS must still be reported in NORS. We believe the clarity we provide today will serve the public interest by confirming reporting obligations in those limited circumstances when an outage occurs, in ATIS's phrasing, “just prior to” a DIRS activation. This clear demarcation defining when NORS reports must be filed for outages occurring “just prior” to a DIRS activation will remove any potential uncertainty among providers. We agree with ATIS that by providing greater certainty regarding how the NORS waiver is to be applied, this waiver will be more effective at reducing filing burdens during emergencies.

We deny ATIS's request to clarify that NORS filers be allowed to withdraw notifications or reports that are filed in NORS before the first DIRS filing deadline solely because DIRS has been activated in the area of the outage. ATIS suggests that without this clarification, the Commission may receive “duplicative outage reports for the same disaster.” We find that the benefit of maintaining the NORS report on file outweighs any burden of potentially receiving duplicative reports. Maintaining the NORS report on file allows the Commission to retain a record that the provider satisfied its obligation. Additionally, allowing withdrawals solely in response to a DIRS activation would not reduce any reporting burden to communications service providers, as the effort to create and submit a NORS report would have already been expended (and withdrawing a NORS report would arguably expend additional provider resources). Further, withdrawing a NORS report would deprive the Commission of potentially useful information that is not collected in DIRS, such as the outage start time. To be clear, we do not preclude communications service providers from withdrawing NORS reports if there are other reasons in addition to the activation of DIRS that support withdrawal (e.g., the outage is determined not to meet the NORS reporting threshold). But absent some other reason justifying withdrawal in addition to a DIRS activation, we find that the public interest is best served by maintaining such NORS reports on file and therefore decline ATIS's request.

B. 911 and 988 Special Facility Notifications

We decline ATIS's request to clarify that the NORS reporting waiver during DIRS activations applies to 911 and 988 special facility outage notification requirements because ATIS's request is both procedurally and substantively infirm. With respect to the procedural soundness of ATIS's request for clarification, we agree with APCO that ATIS's argument is procedurally barred because ATIS failed to present it to the Commission at the appropriate juncture. ATIS does not dispute that its comments and reply in response to the 2021 Resilient Networks NPRM failed to request that the Commission extend its proposed NORS waiver to include special facility notification requirements, but asserts that its argument is nonetheless timely because some special facility notification requirements stem from subsequent Commission orders on 911 and 988 reporting that post-date the 2021 Resilient Networks NPRM. While it is true that the Commission adopted additional 911 and 988 special facility outage notification obligations following issuance of the 2021 Resilient Networks NPRM, substantially similar 911 special facility outage notification rules have been codified in the Commission's rules for several years. Since 2004, originating providers of cable communications, wireless, satellite communications, and wireless service have been required to notify a 911 special facility “as soon as possible” whenever an outage potentially affects that 911 special facility. In 2013, the Commission expanded this 911 special facility notification requirement to “covered 911 service providers” and imposed more specific requirements on the timing and content of those notifications. Thus, although the Commission took further incremental steps to refine the timing for delivery of those notifications in the November 2022 911 Outage Notification Order and expanded their application to the 988 context in the July 2023 988 Outage Notification Order, the special facility notification requirements were a longstanding component of the Commission's rules when ATIS submitted its comments and reply in response to the 2021 Resilient Networks NPRM. ATIS therefore cannot satisfy the requirement under the rules of establishing that it did not know, and could not have ascertained with ordinary diligence, its argument about waiving 911 and 988 special facility notification requirements when DIRS is activated until it filed its petition in May 2024. We therefore decline to consider this argument on procedural grounds.

On alternative and independent grounds, we deny ATIS's clarification request because it raises public interest concerns that cannot be overcome by the purported benefits that ATIS claims. To justify its request, ATIS asserts that this clarification “will better satisfy the purpose of the waiver” and “reduce the burden on providers during major disasters. . . .” APCO cites “substantive concerns” with ATIS's request, noting that the special facility outage notifications provide “a degree of situational awareness that is qualitatively different from the information available in DIRS[]” and “are much more likely to enable PSAP/ECC personnel to recognize the impacts on their community” and take prompt responsive action. Contrary to ATIS and CTIA's contentions that these notifications are unnecessary, DIRS daily reports are not an adequate substitute for the outage notifications to 911 and 988 special facilities required by our rules. ATIS is incorrect when it asserts that PSAPs can access DIRS data directly pursuant to the Commission's information sharing rules with state and federal governments under section 4.2. PSAPs generally would not qualify for such access because they are not state agencies. While we expect that PSAPs would derive value from the aggregated DIRS daily reports made publicly available during disaster events, outage notifications made directly to PSAPs are more timely than those provided through DIRS daily reports and provide more specific information including the identity of the service provider experiencing the outage. Moreover, while we recognize that there is some burden in preparing and submitting these notifications, we believe that burden is outweighed by the situational awareness these notifications will afford 911 and 988 special facilities in times of disaster when emergency services are needed most. For example, when 911 special facilities receive notification of an outage within 30 minutes, as required under the notification rules, they are able to timely publicize alternative methods for contacting emergency services. In contrast, DIRS reports must be submitted only once per day, and the information they contain could therefore be less up-to-date. To foster continued realization of these important public safety benefits, we deny ATIS's request for clarification and confirm that providers must continue to comply with applicable 911 and 988 outage notification requirements during DIRS activations.

Final Regulatory Flexibility Analysis

As required by the Regulatory Flexibility Act of 1980, as amended (RFA), the Commission incorporated an Initial Regulatory Flexibility Analysis (IRFA) in the 2021 Resilient Networks Notice of Proposed Rulemaking (NPRM), released in October 2021, and in the Second Report and Order & Further Notice of Proposed Rulemaking (Second Report and Order & FNPRM), released in January 2024. The Commission sought written public comment on the proposals in the 2021 Resilient Networks NPRM and the Second Report and Order & FNPRM, including comment on the IRFAs. No comments were filed addressing the IRFAs. This Final Regulatory Flexibility Analysis (FRFA) conforms to the RFA, and it (or summaries thereof) will be published in the Federal Register.

A. Need for, and Objective of, the Proposed Rules

In today's Order on Reconsideration (Order), the Commission addresses the Alliance for Telecommunications Industry Solutions' (ATIS's) petition for reconsideration of the Second Report and Order & FNPRM clarifying how the waiver of Network Outage Reporting System (NORS) reports will apply during Disaster Information Reporting System (DIRS) activations when outages occur in the same geographic area as a DIRS activation, to outages for which notifications or initial reports have already been filed in NORS, and to the Commission's Public Safety Answering Points (PSAPs) and 988 Suicide & Crisis Lifeline notification requirements. We clarify that when any NORS filing is due prior to the first DIRS filing deadline, providers must submit that filing in NORS. Requirements to submit NORS filings with deadlines that occur after the deadline for the first DIRS filing deadline are waived so long as the outage is timely reported in DIRS. The Commission believes this clarity will serve the public interest by providing certainty to service providers regarding their outage reporting obligations.

We decline to extend the NORS reporting waiver to the Commission's PSAP and 988 Suicide & Crisis Lifeline notification requirements for procedural and substantive reasons. We find this request for clarification is beyond the scope of the Second Report and Order & FNPRM because neither the 2021 Resilient Networks NPRM nor the Second Report and Order & FNPRM contemplated waiving these notifications, and because granting this relief would be contrary to the public interest as it would deprive public safety stakeholders of timely information about service outages.

In the Third Further Notice accompanying the Order on Reconsideration, the Commission seeks comment on the remaining issues raised in the underlying petition for reconsideration. Specifically, we seek comment on whether the NORS filing waiver should apply to DIRS-Lite activations and whether DIRS final reporting obligations should be eliminated. These issues will be addressed based on the record from the Third Further Notice.

B. Legal Basis

This action is authorized pursuant to sections 1, 4, 201, 214, 218, 251, 301, 303(b), 303(g), 303(j), 303(r), 307, 309, 316, 332, and 403, of the Communications Act of 1934, as amended, 47 U.S.C. 151, 154, 201, 214, 218, 251, 301, 303(b), 303(g), 303(j), 303(r), 307, 309, 316, 332, 403, sections 2, 3(b), and 6-7 of the Wireless Communications and Public Safety Act of 1999, 47 U.S.C. 615 note, 615, 615a-1, 615b, and section 1.429 of the Commission's rules, 47 CFR 1.429.

C. Description and Estimate of the Number of Small Entities to Which the Proposed Rules Will Apply

The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

Small Businesses, Small Organizations, Small Governmental Jurisdictions. Our actions, over time, may affect small entities that are not easily categorized at present. We therefore describe three broad groups of small entities that could be directly affected by our actions. First, while there are industry specific size standards for small businesses that are used in the regulatory flexibility analysis, in general, a small business is an independent business having fewer than 500 employees. These types of small businesses represent 99.9% of all businesses in the United States, which translates to 34.75 million businesses. Next, “small organizations” are not-for-profit enterprises that are independently owned and operated and not dominant their field. While we do not have data regarding the number of non-profits that meet that criteria, over 99 percent of nonprofits have fewer than 500 employees. Finally, “small governmental jurisdictions” are defined as cities, counties, towns, townships, villages, school districts, or special districts with populations of less than fifty thousand. Based on the 2022 U.S. Census of Governments data, we estimate that at least 48,724 out of 90,835 local government jurisdictions have a population of less than 50,000.

The actions taken in the Order will apply to a substantial number of small entities in the following industries: All Other Telecommunications, Media Streaming Distribution Services, Social Networks, and Other Media Networks and Content Providers; Radio Stations; Satellite Telecommunications; Telecommunications Resellers; Television Broadcasting; Wired Telecommunications Carriers; and Wireless Telecommunications Carriers (except Satellite). Affected entities within these identified industries include: Competitive Local Exchange Carriers; Incumbent Local Exchange Carriers; Local Exchange Carriers; Wired Telecommunications Carriers; Interexchange Carriers; Operator Service Providers; Local Resellers; Toll Resellers; Telecommunications Resellers; Wireless Telecommunications Carriers (except Satellite); Specialized Mobile Radio Licenses; and Wireless Telephony.

D. Description of Economic Impact and Projected Reporting, Recordkeeping, and Other Compliance Requirements for Small Entities

The requirements in the Order will not impose new or modified reporting, recordkeeping and/or other compliance obligations on small entities. The Order clarifies the timing of outage reports and situations in which NORS reporting is waived. Providing a clear demarcation defining when NORS reports must be filed for outages occurring “just prior” to a DIRS activation will remove any potential filing requirements uncertainty for small and other providers. Further, the certainty provided by the Commission's clarification of how the NORS waiver is to be applied should reduce filing burdens during emergencies for small and other providers. The Order will not impose additional obligations or expenditure of resources on small businesses, and our clarifications should not require small entities to hire professionals.

E. Response to Comments From the Chief Counsel for Advocacy of the Small Business Administration

The Chief Counsel for Advocacy of the Small Business Administration did not file any comments in response to the proposed rules in this proceeding.

F. Discussion of Steps Taken To Minimize the Significant Economic Impact on Small Entities, and Significant Alternatives Considered

The Commission in the Order considered and denied ATIS's request for clarification that NORS filers be allowed to withdraw notifications or reports that are filed in NORS before the first DIRS filing deadline solely because DIRS has been activated in the area of the outage. We also considered and denied ATIS's request to clarify that the NORS reporting waiver applies to 911 and 988 special facility outage notification requirements, and confirm that small and other providers must continue to comply with applicable 911 and 988 outage notification requirements during DIRS activations.

Ordering Clauses

Accordingly, it is ordered that the Order on Reconsideration in PS Docket Nos. 21-346 and 15-80 and ET Docket No. 04-35 is adopted and the Alliance for Telecommunications Industry Solutions' Petition for Clarification and/or Reconsideration is granted as discussed herein and otherwise denied.

It is further ordered that the Office of Managing Director, Performance Program Management, shall send a copy of this Order on Reconsideration in a report to be sent to Congress and the Government Accountability Office pursuant to the Congressional Review Act, 5 U.S.C. 801(a)(1)(A).

It is further ordered that this Order on Reconsideration shall be effective upon publication in the Federal Register.

List of Subjects in 47 CFR Part 4

Airports, Communications common carriers, Communications equipment, Reporting and recordkeeping requirements, Telecommunications.

Federal Communications Commission.
Marlene Dortch,
Secretary, Office of the Secretary.

Final Rules

For the reasons discussed in the preamble, the Federal Communications Commission amends 47 CFR part 4 as follows:

PART 4—DISRUPTIONS TO COMMUNICATIONS

1. The authority citation for part 4 continues to read as follows:

Authority: 47 U.S.C. 34-39, 151, 154, 155, 157, 201, 251, 307, 316, 615a-1, 1302(a), and 1302(b); 5 U.S.C. 301, and Executive Order no. 10530.

2. Amend § 4.18 by revising paragraph (b) to read as follows:

§ 4.18 Mandatory Disaster Information Reporting System (DIRS) reporting for Cable Communications, Wireless, Wireline, and VoIP providers.

* * * * *

(b) Facilities-based cable communications, wireline communications, wireless service, and interconnected VoIP providers who provide a DIRS report pursuant to paragraph (a) of this section are not required to make submissions in the Network Outage Reporting System (NORS) under this chapter pertaining to any outage that occurs in an area in which the Commission has activated DIRS, as long as the first daily DIRS report for the activation is due before the NORS submission under section 4.9 of this chapter would be due for the outage, and the outage is timely reported in DIRS. Subject providers shall be notified that DIRS is activated and deactivated pursuant to Public Notice from the Commission and/or the Public Safety and Homeland Security Bureau.

[FR Doc. 2025-17899 Filed 9-15-25; 8:45 am]

BILLING CODE 6712-01-P